DEPARTMENT OF TRANSPORTATION

Federal Highway Administration

23 CFR Part 490

[FHWA Docket No. FHWA-2023-0014]

RIN 2125-AG06

National Performance Management Measures; Extenuating Circumstances, Highway Performance Monitoring System Data Field Names, Safety Performance Measure, Pavement Condition Measure, and Freight Performance Measure

AGENCY: Federal Highway Administration (FHWA), U.S. Department of Transportation (DOT).

ACTION: Proposed rule; extension of comment period.

SUMMARY: The FHWA is extending the comment period for a notice of proposed rulemaking (NPRM) and request for comments, which was published on January 25, 2024. The original comment period is set to close on February 26, 2024. The extension is based on concern expressed by stakeholders that the February 26, 2024, closing date does not provide sufficient time to review and provide comprehensive comments. The FHWA recognizes that others interested in commenting may have similar concerns and agrees that the comment period should be extended. Therefore, the closing date for comments is changed to March 12, 2024, which will provide stakeholders and others interested in commenting additional time to discuss, evaluate, and submit responses to the docket.

DATES: Comments must be received on or before March 12, 2024. Late-filed comments will be considered to the extent practicable.

ADDRESSES: To ensure that you do not duplicate your docket submissions, please submit them by only one of the following means:

• Federal eRulemaking Portal: Go to www.regulations.gov and follow the online instructions for submitting comments.

• Mail: Docket Management Facility, U.S. Department of Transportation, 1200 New Jersey Avenue SE, West Building Ground Floor, Room W12-140, Washington, DC 20590;

• Hand Delivery: West Building Ground Floor, Room W12-140, 1200 New Jersey Avenue SE, between 9:00 a.m.-5:00 p.m., e.t., Monday through Friday, except Federal holidays. The telephone number is (202) 366-9329;

• Instructions: You must include the agency name and docket number or the Regulatory Identification Number for the rulemaking at the beginning of your comments. All comments received will be posted without change to www.regulations.gov, including any personal information provided.

FOR FURTHER INFORMATION CONTACT: Mrs. Alexis Kuklenski, Office of Infrastructure, (202) 689-9229, Alexis.Kuklenski@dot.gov, or Ms. Dawn Horan, Office of the Chief Counsel, (202) 366-9615, Dawn.M.Horan@dot.gov, Federal Highway Administration, 1200 New Jersey Avenue SE, Washington, DC 20590.

SUPPLEMENTARY INFORMATION:

Electronic Access and Filing

This document and all comments received may be viewed online through the Federal eRulemaking portal at www.regulations.gov. The website is available 24 hours each day, 365 days each year. An electronic copy of this document may also be downloaded by accessing the Office of the Federal Register's home page at: www.federalregister.gov.

Background

On January 25, 2024, at 89 FR 4857, FHWA published in the Federal Register an NPRM proposing updates to the National Performance Management Measure regulations. The original comment period for the NPRM closes on February 26, 2024. Stakeholders have expressed concern that this closing date does not provide sufficient time to review and provide comprehensive comments on the proposal. The FHWA recognizes that others interested in commenting may have similar concerns and agrees that the comment period should be extended by 15 days for these organizations and others to submit comprehensive comments. The closing date is changed from February 26, 2024, to March 12, 2024.

Authority: 23 U.S.C. 134, 135, 148, and 150; 49 CFR 1.85.

Shailen P. Bhatt,
Administrator, Federal Highway Administration.

[FR Doc. 2024-02835 Filed 2-12-24; 8:45 am]

BILLING CODE 4910-22-P